DEPARTMENT OF DEFENSE

Office of the Secretary

32 CFR Part 237a

[Docket ID: DOD-2016-OS-0084]

RIN 0790-AI94

Public Affairs Liaison With Industry

AGENCY: Assistant to the Secretary of Defense for Public Affairs, DoD.

ACTION: Final rule.

SUMMARY: This final rule removes regulations concerning Public Affairs liaison with industry. These Code of Federal Regulations (CFR) provisions are outdated and no longer accurate or applicable as written. The guidance, as revised, sets forth internal standards for how DoD employees should reach out and engage with industry. With respect to the visual information portion, it is essentially a collection and discussion of currently applicable intellectual property law that does not create any new public duties or obligations. Therefore, these regulations are removed from the CFR.

DATES: This rule is effective on August 15, 2016.

FOR FURTHER INFORMATION CONTACT: Patricia Toppings at 571-372-0485.

SUPPLEMENTARY INFORMATION: This rule will be reported in future status updates as part of DoD's retrospective plan under Executive Order 13563 completed in August 2011. DoD's full plan can be accessed at: http://www.regulations.gov/#!docketDetail;D=DOD-2011-OS-0036.

It has been determined that publication of this CFR part removal for public comment is impracticable, unnecessary, and contrary to public interest since it is based on removing DoD internal policies and procedures that are publically available on the Department's issuance Web site. Once signed, a copy of DoD's internal guidance contained in DoD Instruction 5410.20 will be made available at http://www.dtic.mil/whs/directives/corres/pdf/541020p.pdf.

List of Subjects in 32 CFR Part 237a

Armed forces; Business and industry.

PART 237a—[REMOVED]

Accordingly, by the authority of 5 U.S.C. 301, 32 CFR part 237a is removed.

Dated: August 9, 2016.
Aaron Siegel,
Alternate OSD Federal Register Liaison Officer, Department of Defense.

[FR Doc. 2016-19345 Filed 8-12-16; 8:45 am]

BILLING CODE 5001-06-P